DEPARTMENT OF ENERGY

Federal Energy Regulatory Commission

Combined Notice of Filings #1

Take notice that the Commission received the following electric corporate filings:

Docket Numbers: EC19-55-000.

Applicants: Crystal Lake Wind, LLC, Crystal Lake Wind Energy I, LLC.

Description: Application for Authorization Under Section 203 of the Federal Power Act, et al. of Crystal Lake Wind, LLC, et al.

Filed Date: 2/13/19.

Accession Number: 20190213-5102.

Comments Due: 5 p.m. ET 3/6/19.

Take notice that the Commission received the following exempt wholesale generator filings:

Docket Numbers: EG19-56-000.

Applicants: Waipio PV, LLC.

Description: Notice of Self-Certification of Exempt Wholesale Generator Status of Waipio PV, LLC.

Filed Date: 2/13/19.

Accession Number: 20190213-5027.

Comments Due: 5 p.m. ET 3/6/19.

Take notice that the Commission received the following electric rate filings:

Docket Numbers: ER10-3048-008; ER15-2720-002.

Applicants: Longview Fibre Paper and Packaging, Inc., WestRock CP, LLC.

Description: Notice of Non-Material Change in Status of Longview Fibre Paper and Packaging, Inc., et al.

Filed Date: 2/12/19.

Accession Number: 20190212-5142.

Comments Due: 5 p.m. ET 3/5/19.

Docket Numbers: ER12-862-001.

Applicants: Power Supply Services LLC.

Description: Notice of change in status of Power Supply Services LLC.

Filed Date: 2/12/19.

Accession Number: 20190212-5143.

Comments Due: 5 p.m. ET 3/5/19.

Docket Numbers: ER19-67-001.

Applicants: NRG REMA LLC.

Description: Compliance filing: Reactive Service Rate Schedule Informational Filing to be effective 12/14/2018.

Filed Date: 2/13/19.

Accession Number: 20190213-5055.

Comments Due: 5 p.m. ET 3/6/19.

Docket Numbers: ER19-433-003.

Applicants: Union Electric Company.

Description: Tariff Amendment: Amendment to Rate Schedule No. 22 to be effective 12/1/2018.

Filed Date: 2/13/19.

Accession Number: 20190213-5060.

Comments Due: 5 p.m. ET 3/6/19.

Docket Numbers: ER19-997-000.

Applicants: Pinetree Power LLC.

Description: Supplement to February 6, 2019 Pinetree Power LLC tariff filing.

Filed Date: 2/13/19.

Accession Number: 20190213-5014.

Comments Due: 5 p.m. ET 2/27/19.

Docket Numbers: ER19-1036-000.

Applicants: Midcontinent Independent System Operator, Inc.

Description: § 205(d) Rate Filing: 2019-02-13_Termination of SA 3160 ATC-WEPCo PCA (Somers) to be effective 2/14/2019.

Filed Date: 2/13/19.

Accession Number: 20190213-5013.

Comments Due: 5 p.m. ET 3/6/19.

Docket Numbers: ER19-1037-000.

Applicants: Midcontinent Independent System Operator, Inc.

Description: § 205(d) Rate Filing: 2019-02-13_SA 3245 ATC-CWP D-TIA to be effective 1/24/2019.

Filed Date: 2/13/19.

Accession Number: 20190213-5015.

Comments Due: 5 p.m. ET 3/6/19.

Docket Numbers: ER19-1038-000.

Applicants: Tracel Energy Marketing Limited Partners.

Description: Tariff Cancellation: Notice of Cancellation to be effective 4/15/2019.

Filed Date: 2/13/19.

Accession Number: 20190213-5029.

Comments Due: 5 p.m. ET 3/6/19.

Docket Numbers: ER19-1039-000.

Applicants: Southwest Power Pool, Inc.

Description: § 205(d) Rate Filing: Revisions to the Appeal Process in Bylaws Section 3.10 to be effective 4/14/2019.

Filed Date: 2/13/19.

Accession Number: 20190213-5030.

Comments Due: 5 p.m. ET 3/6/19.

Docket Numbers: ER19-1040-000.

Applicants: Pacific Wind Lessee, LLC.

Description: § 205(d) Rate Filing: Revised Shared Transmission Facilities Agreement and Request for Waivers to be effective 2/14/2019.

Filed Date: 2/13/19.

Accession Number: 20190213-5079.

Comments Due: 5 p.m. ET 3/6/19.

Docket Numbers: ER19-1041-000.

Applicants: PJM Interconnection, L.L.C.

Description: § 205(d) Rate Filing: Amendment to ISA, Service Agreement No. 4242, Queue Nos. Z1-092/AD1-142 to be effective 4/24/2018.

Filed Date: 2/13/19.

Accession Number: 20190213-5104.

Comments Due: 5 p.m. ET 3/6/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 13, 2019.
Nathaniel J. Davis, Sr.,
Deputy Secretary.

[FR Doc. 2019-02864 Filed 2-20-19; 8:45 am]

BILLING CODE 6717-01-P